DEPARTMENT OF TRANSPORTATION

Federal Aviation Administration

14 CFR Part 39

[Docket No. FAA-2014-0031; Directorate Identifier 2013-CE-054-AD; Amendment 39-17838; AD 2014-09-03]

RIN 2120-AA64

Airworthiness Directives; SOCATA Airplanes

AGENCY: Federal Aviation Administration (FAA), Department of Transportation (DOT).

ACTION: Final rule.

SUMMARY: We are superseding Airworthiness Directive (AD) 99-07-11 for SOCATA Model TBM 700 airplanes. This AD results from mandatory continuing airworthiness information (MCAI) issued by an aviation authority of another country to identify and correct an unsafe condition on an aviation product. The MCAI describes the unsafe condition as cracks on the outboard hinge fittings. We are issuing this AD to require actions to address the unsafe condition on these products.

DATES: This AD is effective June 5, 2014.

The Director of the Federal Register approved the incorporation by reference of a certain publication listed in the AD as of June 5, 2014.

ADDRESSES: You may examine the AD docket on the Internet at http://www.regulations.gov by searching for and locating Docket No. FAA-2014-0031; or in person at the Docket Management Facility, U.S. Department of Transportation, Docket Operations, M-30, West Building Ground Floor, Room W12-140, 1200 New Jersey Avenue SE., Washington, DC 20590.

For service information identified in this AD, contact SOCATA, Direction des Services, 65921 Tarbes Cedex 9, France; telephone +33 (0) 5 62 41 73 00; fax +33 (0) 5 62 41 76 54, or for North America: SOCATA NORTH AMERICA, North Perry Airport, 7501 South Airport Road, Pembroke Pines, Florida 33023; telephone: (954) 893-1400; fax: (954) 964-4141; email: mysocata@socata.daher.com; Internet: www.mysocata.com. You may view this referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 to add an AD that would apply to certain SOCATA Model TBM 700 airplanes. The NPRM was published in the Federal Register on January 27, 2014 (79 FR 4300), and proposed to supersede AD 99-07-11, Amendment 39-11096 (64 FR 14820, March 29, 1999) (“AD 99-07-11”).

Since we issued AD 99-07-11 (64 FR 14820, March 29, 1999), SOCATA determined that the cause of the cracks in the horizontal stabilizer outboard hinge fitting was due to the incorrect installation of the fittings during production, which induced stress. SOCATA has issued new mandatory service information to require a modification to the outboard hinge fittings of the horizontal stabilizer to eliminate the stress.

The European Aviation Safety Agency (EASA), which is the Technical Agent for the Member States of the European Community, has issued AD No. 2013-0035, dated February 22, 2013 (referred to after this as “the MCAI”), to correct an unsafe condition for the specified products. The MCAI states:

During the 1990s, several occurrences were reported of finding cracks in the outboard hinge fittings of the horizontal stabiliser on TBM 700 aeroplanes.

This condition, if not detected and corrected, could result in rupture of the outboard hinge fittings, which would adversely affect the structural integrity of the horizontal stabiliser. The in-flight loss of the horizontal stabiliser would result in reduced control of the aeroplane,

To address this unsafe condition, DGAC France issued AD 1999-060(A), requiring repetitive inspections of the fittings and, depending on findings, corrective action.

After that AD was issued, SOCATA determined that the cause of the cracks was a wrong installation of the fittings during production, inducing stress. Consequently, DGAC France issued AD 2000-307(A), partially retaining the requirements of DGAC France AD 1999-060(A), which was superseded, and required, depending on findings, that the installation of the fittings of in-service aeroplanes be rectified by introduction of adjusting shims, a modification which was introduced as standard on the production line from MSN 162. The periodical inspection of the fittings for cracks was still required, pending a better understanding of the cause of the cracks.

Since DCAG France AD 2000-307(A) was issued, the results of the further analysis revealed that the final design (installation of shims on the outboard hinge fittings of the horizontal stabiliser) guarantees a service fatigue life which exceeds the one established for the TBM 700 during certification. Consequently, for aeroplanes with this modification, the repetitive inspections of the fittings can be discontinued. However, as the installation of the fittings was only required depending on findings, this modification may not have been accomplished on all affected aeroplanes.

For the reasons described above, this AD supersedes (and thereby cancels the requirements of) DGAC France AD 2000-307(A) and requires installation of shims on the outboard hinge fittings of the horizontal stabiliser.

You may examine the MCAI on the Internet at http://www.regulations.gov/#!documentDetail;D=FAA-2014-0031-0002.

Comments

We gave the public the opportunity to participate in developing this AD. The following presents the comments received on the proposal and the FAA's response to each comment.

Request To Incorporate Amended Service Bulletin

DAHER-SOCATA requested that we incorporate Amendment 3 of Mandatory Service Bulletin SB 70-080, dated September 2013, into the AD to replace DAHER-SOCATA TBM Aircraft Mandatory Service Bulletin SB 70-080, Amendment 2, dated August 2012.

We agree with the commenter to incorporate the newer version of the related service information. We will also give credit for complying with the actions in the proposed AD if already done before the effective date of this AD following DAHER-SOCATA TBM Aircraft Mandatory Service Bulletin SB 70-080, Amendment 2, dated August 2012.

We have changed the final rule AD action based on this comment.

Request To Change the Number of Affected Airplanes

DAHER-SOCATA requested that we change the number of affected airplanes in the Cost of Compliance section from 159 to 80, which is the number of U.S.-registered airplanes.

We agree with the commenter and have changed the final rule AD action based on this comment.

Conclusion

We reviewed the relevant data, considered the comments received, and determined that air safety and the public interest require adopting the AD with the changes described previously and minor editorial changes. We have determined that these minor changes:

• Are consistent with the intent that was proposed in the NPRM (79 FR 4300, January 27, 2014) for correcting the unsafe condition; and

• Do not add any additional burden upon the public than was already proposed in the NPRM (79 FR 4300, January 27, 2014).

We also determined that these changes will not increase the economic burden on any operator or increase the scope of the AD.

Costs of Compliance

We estimate that this proposed AD will affect 80 products of U.S. registry. We also estimate that it would take about 6.5 work-hours per product to comply with the basic requirements of this proposed AD. The average labor rate is $85 per work-hour. Required parts would cost about $500 per product.

Based on these figures, we estimate the cost of the proposed AD on U.S. operators to be $84,200, or $1,052.50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0031; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11096 (64 FR 14820, March 29, 1999), and adding the following new AD:

2014-09-03 SOCATA: Amendment 39-17838; Docket No. FAA-2014-0031; Directorate Identifier 2013-CE-054-AD.

(a) Effective Date

This airworthiness directive (AD) becomes effective June 5, 2014.

(b) Affected ADs

This AD supersedes AD 99-07-11, Amendment 39-11096 (64 FR 14820, March 29, 1999).

(c) Applicability

This AD applies to SOCATA TBM 700 airplanes, manufacturer serial numbers (MSN) 1 through 98, 100 through 156, and 158 through 161, certificated in any category.

(d) Subject

Air Transport Association of America (ATA) Code 55: Stabilizers.

(e) Reason

This AD was prompted by mandatory continuing airworthiness information (MCAI) originated by an aviation authority of another country to identify and correct an unsafe condition on an aviation product. The MCAI describes the unsafe condition as cracks on the outboard hinge fittings. We are issuing this AD to require the use of new service information issued by DAHER-SOCATA to eliminate the stress on the outboard hinge fittings, which is causing the cracks. If this condition is not prevented, the outboard hinge fittings could fail causing reduced structural integrity of the horizontal stabilizer, which could result in reduced control.

(f) Actions and Compliance

Unless already done, within the next 100 hours time-in-service after June 5, 2014 (the effective date of this AD) or within the next 12 months after June 5, 2014 (the effective date of this AD), whichever occurs first, install shims on the outboard hinge fittings of the horizontal stabilizer. Do the modification following the Accomplishment Instructions in DAHER-SOCATA TBM Aircraft Mandatory Service Bulletin SB 70-080, Amendment 3, dated September 2013.

(g) Credit for Actions Done Following Previous Service Information

This AD allows credit for the actions required in paragraph (f) of this AD if done before June 5, 2014 (the effective date of this AD), following DAHER-SOCATA TBM Aircraft Mandatory Service Bulletin SB 70-080, Amendment 2, dated August 2012.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: alebert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD No. 2013-0035, dated February 22, 2013, for related information. You may examine the MCAI on the Internet http://www.regulations.gov/#!documentDetail;D=FAA-2014-0031-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) DAHER-SOCATA TBM Aircraft Mandatory Service Bulletin SB 70-080, Amendment 3, dated September 2013.

(ii) Reserved.

(3) For SOCATA service information identified in this AD, contact SOCATA, Direction des Services, 65921 Tarbes Cedex 9, France; telephone +33 (0) 5 62 41 73 00; fax +33 (0) 5 62 41 76 54, or for North America: SOCATA NORTH AMERICA, North Perry Airport, 7501 South Airport Road, Pembroke Pines, Florida 33023; telephone: (954) 893-1400; fax: (954) 964-4141; email: mysocata@socata.daher.com; Internet: www.mysocata.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 17, 2014.
Earl Lawrence,
Manager, Small Airplane Directorate, Aircraft Certification Service.

[FR Doc. 2014-09421 Filed 4-30-14; 8:45 am]

BILLING CODE 4910-13-P